DEPARTMENT OF JUSTICE

Drug Enforcement Administration

[Docket No. DEA-1489]

Importer of Controlled Substance Application: Fisher Clinical Services, Inc.

AGENCY: Drug Enforcement Administration, Justice.

ACTION: Notice of application.

SUMMARY: Fisher Clinical Services, Inc. has applied to be registered as an importer of basic class(es) of controlled substance(s). Refer to Supplementary Information listed below for further drug information.

DATES: Registered bulk manufacturers of the affected basic class(es), and applicants, therefore, may submit electronic comments on or objections to the issuance of the proposed registration on or before April 16, 2025. Such persons may also file a written request for a hearing on the application on or before April 16, 2025.

ADDRESSES: The Drug Enforcement Administration requires that all comments be submitted electronically through the Federal eRulemaking Portal, which provides the ability to type short comments directly into the comment field o the web page or attach a file for lengthier comments. Please go to https://www.regulations.gov and follow the online instructions at that sit for submitting comments. Upon submission of your comment, you will receive a Comment Tracking Number, your comment has been successfully submitted and there is no need to resubmit the same comment. All request for a hearing must be sent to (1) Drug Enforcement Administration, Attn: Hearing Clerk/OALJ, 8701 Morrissette Drive, Springfield, Virginia 22152, and (2) Drug Enforcement Administration, Attn: DEA Federal Register Representative/DPW, 8701 Morrissette Drive Springfield, Virginia 22152. All request for a hearing should also be sent to: Drug Enforcement Administration, Attn: Administrator, 8701 Morrissette Drive, Springfield, Virginia 22152.

SUPPLEMENTARY INFORMATION: In accordance with 21 CFR 1301.34(a), this is notice that on September 13, 2024, Fisher Clinical Services, Inc. 7554 Schantz Road, Allentown, Pennsylvania 18106-9032, applied to be registered as an importer of the following basic class(es) of controlled substance(s):

Controlled substance | Drug code | Schedule
Marihuana Extract | 7350 | I
Marihuana | 7360 | I
Dimethyltryptamine | 7435 | I
Psilocybin | 7437 | I
Methylphenidate | 1724 | II
Levorphanol | 9220 | II
Noroxymorphone | 9668 | II
Tapentadol | 9780 | II

The company plans to import the listed controlled substances for clinical trials only. No other activities for these drug codes are authorized for this registration.

Approval of permit applications will occur only when the registrant's business activity is consistent with what is authorized under 21 U.S.C. 952(a)(2). Authorization will not extend to the import of Food and Drug Administration approved or non-approved finished dosage forms for commercial sale.

Matthew Strait,
Deputy Assistant Administrator.

[FR Doc. 2025-04285 Filed 3-14-25; 8:45 am]

BILLING CODE P